OFFICE OF PERSONNEL MANAGEMENT

Privacy Act of 1974: New System of Records

AGENCY: U.S. Office of Personnel Management (OPM).

ACTION: Notice to extend comment period for a new system of records.

SUMMARY: OPM is extending the comment period for a new system of records, OPM/Central-15, Health Claims Data Warehouse, until December 15, 2010. The initial notice for this system was published on October 5, 2010, and provided a comment period deadline of November 15, 2010. Based on the comments we have received since we published the initial notice, OPM is considering revisions to the systems notice to, among other things, provide greater specificity regarding the authorities for maintaining the system, clarify its intent to significantly limit the circumstances under which personally identifiable records may be released, and provide a more detailed explanation of how the records in this system will be protected and secured. If OPM publishes a revised systems notice, the public will have the opportunity to comment on the revised notice before OPM begins operating the system. In the meantime, OPM is extending the opportunity for interested persons, organizations, and agencies to review and provide comments pursuant to the October 5, 2010 system notice.

DATES: The comment period is extended until December 15, 2010.

ADDRESSES: Send written comments to the Office of Personnel Management, Attn: Gary A. Lukowski, Ph.D., Manager, Data Analysis, U. S. Office of Personnel Management, 1900 E Street, NW., Room 7439, Washington, DC 20415 or to gary.lukowski@opm.gov.

FOR FURTHER INFORMATION CONTACT: Gary A. Lukowski, Ph.D., Manager, Data Analysis, at 202-606-1449.

U.S. Office of Personnel Management.
John Berry,
Director.

[FR Doc. 2010-28834 Filed 11-12-10; 8:45 am]

BILLING CODE 6325-46-P